FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011689-013.

Title: Zim/CSCL Slot Charter Agreement.

Parties: Zim Integrated Shipping Services, Ltd.; China Shipping Container Line Co., Ltd.; and China Shipping Container Lines (Hong Kong) Co., Ltd.

Filing Party: Wayne R. Rohde, Esq.; Cozen O'Conner; 1627 I Street, NW., Suite 1100; Washington, DC 20006-4007.

Synopsis: The amendment revises the parties' allocation under the Agreement.

Agreement No.: 012133.

Title: Mitsui O.S.K. Lines/Kawasaki Kisen Kaisha Space Charter Agreement.

Parties: Kawasaki Kisen Kaisha, Ltd. and Mitsui O.S.K. Lines, Ltd.

Filing Party: John P. Meade, Esq.; General Counsel; K-Line America, Inc.; 6009 Bethlehem Road; Preston, MD 21655.

Synopsis: The agreement authorizes the parties to charter space in the trade between ports on the U.S. East coast and Japan.

By order of the Federal Maritime Commission.
Dated: July 15, 2011.
Karen V. Gregory,
Secretary.

[FR Doc. 2011-18316 Filed 7-20-11; 8:45 am]

BILLING CODE 6730-01-P